FEDERAL COMMUNICATIONS COMMISSION

47 CFR Part 64

[CG Docket No. 02-278, FCC 03-230]

Rules and Regulations Implementing the Telephone Consumer Protection Act of 1991

AGENCY: Federal Communications Commission.

ACTION: Final rule.

SUMMARY: In this document, the Commission temporarily stays the limitations imposed in § 64.1200(f)(3) on the duration of an “established business relationship” as applied to the sending of unsolicited facsimile advertisements. As a result, the 18-month limitation on the duration of the established business relationship based on purchases and transactions and the three-month limitation on applications and inquires will not apply to the transmission of facsimile advertisements pending either a decision on this issue on reconsideration or January 1, 2005, whichever is sooner, when the extension of the established business relationship to unsolicited facsimile advertisements is due to expire.

DATES: Effective October 14, 2003. The Federal Communications Commission will publish a document in the Federal Register when the stay is lifted to remove the note to § 64.1200(f)(3) added by this document.

ADDRESSES: Federal Communications Commission, 445 12th Street, SW., Washington, DC 20554.

FOR FURTHER INFORMATION CONTACT: Erica McMahon or Richard Smith of the Consumer & Governmental Affairs Bureau at (202) 418-2512.

SUPPLEMENTARY INFORMATION: This is a summary of the Commission's Order, adopted September 26, 2003, and released October 3, 2003. Copies of any subsequently filed documents in this matter will be available for public inspection and copying during regular business hours at the FCC Reference Information Center, Portals II, 445 12th Street, SW., Room CY-A257, Washington, DC 20554. The complete text of this decision also ma5y be purchased from the Commission's duplicating contractor Qualex International, Portals II, 445 12th Street, SW., Room CY-B402, Washington, DC 20554, telephone (202) 863-2893, facsimile (202) 863-2898, or via e-mail qualexint@aol.com. To request materials in accessible formats for people with disabilities (Braille, large print, electronic files, audio format), send an e-mail to fcc504@fcc.gov or call the Consumer & Governmental Affairs Bureau at (202) 418-0531 (voice), (202) 418-7365 (TTY).

Synopsis

In this Order, the Commission now temporarily stays, for an interim period, the limitations imposed in § 64.1200 (f)(3) on the duration of an “established business relationship” as it applies to the sending of unsolicited facsimile advertisements. During this interim period, the established business relationship, as applied to unsolicited facsimile advertisements, will not expire after 18 months of the recipient's last purchase or transaction or three months after the last application or inquiry. Given that the Commission's adoption of the modified established business relationship definition in the Report and Order, FCC 03-153, published at 68 FR 44144 (July 25, 2003), and Announcement of effective date published at 68 FR 56764 (October 1, 2003), was limited to its application to telephone solicitations, the Commission believes that good cause exists to stay application of the time limitations imposed on the established business relationship in the context of facsimile advertisements until the Commission conducts a review on reconsideration. The Commission emphasizes that nothing in this Order impacts the conclusion in the Order on Reconsideration, FCC 03-208; published at 68 FR 50978, August 25, 2003, that an established business relationship constitutes sufficient permission to send a facsimile advertisement until January 1, 2005.

The Commission notes, however, that in the absence of any Commission action on this issue prior to January 1, 2005, the Commission's determination that an established business relationship will no longer be sufficient to show that an individual or business has given express permission to receive unsolicited facsimile advertisements will go into effect as required by the Order on Reconsideration.

The actions contained herein have not changed our Final Regulatory Flexibility Analysis (FRFA), which is set forth in the Report and Order. Thus, no supplemental FRFA is necessary. In addition, the action contained herein imposes no new or modified reporting and/or recordkeeping requirements or burdens on the public.

Ordering Clauses

Pursuant to sections 1-4, 227, and 303(r) of the Communications Act Of 1934, as amended, 47 U.S.C. 151-154, 227, and 303 (r); and section 1.429 of the Commission's Rules, 47 CFR 1.429, this Order in CG Docket No. 02-278 is adopted as set forth herein.

This Order is effective upon publication in the Federal Register. In light of the fact that this Order imposes no new obligations, the Commission find good cause, pursuant to 5 U.S.C. 553(d), to make this Order effective on less than thirty days' notice.

List of Subjects in 47 CFR Part 64

Telephone.

For the reasons set forth, amend part 64 of title 47 of the Code of Federal Regulations as follows:

PART 64—MISCELLANEOUS RULES RELATING TO COMMON CARRIERS

1. Section 64.1200 is amended by adding the following note to paragraph (f)(3):

§ 64.1200 Delivery restrictions.

* * * * *

(f) * * *

Note to paragraph (f)(3): Paragraph 64.1200(f)(3) is stayed as of October 14, 2003, as it applies to the time limitations on facsimile advertisements. The Federal Communications Commission will publish a document in the Federal Register when the stay is lifted.

* * * * *

Federal Communications Commission.
Marlene H. Dortch,
Secretary.

[FR Doc. 03-25842 Filed 10-10-03; 8:45 am]

BILLING CODE 6712-01-P